ENVIRONMENTAL PROTECTION AGENCY

40 CFR Part 180

[EPA-HQ-OPP-2006-0766; FRL-5031-13-OCSPP]

RIN 2070-AJ28

Pesticides; Expansion of Crop Grouping Program VI

AGENCY: Environmental Protection Agency (EPA).

ACTION: Final rule.

SUMMARY: The Environmental Protection Agency (EPA) is finalizing revisions to its pesticide tolerance crop grouping regulations, which allow the establishment of tolerances for multiple related crops based on data from a representative set of crops. EPA is finalizing amendments to Crop Group 6: Legume Vegetables; Crop Group 7: Foliage of Legume Vegetables; Crop Group 15: Cereal Grains; and Crop Group 16: Forage, Fodder and Straw of Cereal Grains. EPA is also finalizing amendments to the associated commodity definitions. This is the sixth in a series of planned crop group updates expected to be prepared over the next several years.

DATES: This final rule is effective on November 21, 2022.

ADDRESSES: The EPA has established a docket for this action under docket identification (ID) number EPA-HQ-OPP-2006-0766. All documents in the docket are listed on the https://www.regulations.gov website. Although listed in the index, some information is not publicly available, e.g., CBI or other information whose disclosure is restricted by statute. Certain other material, such as copyrighted material, is not placed on the internet and will be publicly available only in hard copy form. Publicly available docket materials are available electronically through https://www.regulations.gov. For the latest status information on EPA/DC services and docket access, visit https://www.epa.gov/dockets.

FOR FURTHER INFORMATION CONTACT: Sara Kemme, Mission Support Division (7101M), Office of Program Support, Environmental Protection Agency, 1200 Pennsylvania Ave. NW, Washington, DC 20460-0001; telephone number: (202) 566-1217; email address: kemme.sara@epa.gov.

SUPPLEMENTARY INFORMATION:

I. Executive Summary

A. Does this action apply to me?

You may be potentially affected by this action if you are an agricultural producer, pesticide manufacturer, or food manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What is the Agency's authority for taking this action?

The EPA is promulgating this rulemaking to amend the existing crop grouping regulations under section 408(e)(1)(C) of the Federal Food, Drug, and Cosmetic Act (FFDCA), which authorizes EPA to establish “general procedures and requirements to implement [section 408].” 21 U.S.C. 346a(e)(1)(C). Under FFDCA section 408, EPA is authorized to establish tolerances for pesticide chemical residues in food. EPA establishes tolerances for each pesticide based on data on the pesticide residues and the potential risks to human health posed by that pesticide. A tolerance is the maximum permissible residue level established for a pesticide in raw agricultural commodities and processed foods. The crop group regulations currently in 40 CFR 180.40 and 180.41 enable the establishment of tolerances for a group of crops based on residue data for certain crops that are representative of the group.

C. What action is the Agency taking?

This final rule is the sixth in an ongoing series of crop group updates, including an additional update expected to be promulgated in the next several years. EPA is finalizing revisions to EPA's regulations governing crop group tolerances for pesticides. Specifically, this rule is finalizing revisions to Crop Group 6: Legume Vegetables (Succulent or Dried) Group; Crop Group 7: Foliage of Legume Vegetables Group; Crop Group 15: Cereal Grains Group; and Crop Group 16: Forage, Fodder, and Straw of Cereal Grains Group. The changes include changes to the terminology in the names of Crop Groups 6, 7, 15, and 16, the addition of commodities, and changes that advance international harmonization. In addition, the final changes include revisions to the subgroups for Crop Group 6 and the addition of subgroups for Crop Group 15. EPA is also finalizing additions and revisions to associated commodity definitions at 40 CFR 180.1(g). Unit III. of the proposed rule includes a detailed description of the provisions that EPA proposed and which the Agency is now finalizing (87 FR 1091, January 10, 2022 (FRL-5032-12-OSCPP)). The changes made in response to public comments are described in greater detail in Unit III. of this final rule.

D. Why is the Agency taking this action?

EPA sets tolerances, which are the maximum amount of a pesticide allowed to remain in or on a food, as part of the process of regulating pesticides that may leave residues in food. Crop groups are established when residue data for certain representative crops are used to establish pesticide tolerances for a group of crops that are botanically or taxonomically related. Representative crops of a crop group or subgroup are those crops whose residue data can be used to establish a tolerance for the entire group or subgroup.

With the establishment of crop groups such as the ones being revised in this final rule, EPA seeks to:

• Enhance our ability to conduct food safety evaluations on crops for tolerance-setting purposes;

• Promote global harmonization of food safety standards;

• Reduce regulatory burden; and

• Ensure food safety for agricultural goods.

E. What are the estimated incremental economic impacts of this action?

This is a burden-reducing regulation because crop grouping allows the results of pesticide residue studies for some crops, called representative crops, to be applied to other, similar crops in the group. EPA prepared an Economic Analysis for this rulemaking (Ref. 1), a copy of which is in the docket for this rule and is summarized here.

1. Costs. The Agency anticipates that the revisions to the crop grouping program finalized in this rulemaking will result in no appreciable costs or negative impacts to consumers, specialty crop producers, pesticide registrants, the environment, or human health. In particular, specialty crop producers may gain access to pesticides that are registered on the crop group that would not have been available when the crop was not part of the group. Although this rule may make it possible to get a pesticide tolerance on a larger number of crops within a group, it will not necessarily increase the amount of pesticides released into the environment and will expand the choice of pesticides for crop producers, which may result in the use of less risky pesticides.

2. Benefits. This final rule will promote greater use of crop groupings for tolerance-setting purposes, both domestically and in countries that export food to the U.S. and is anticipated to benefit pesticide registrants, minor crop growers, and the Agency. While the Agency has not attempted to quantify the benefits at the final rule stage, the qualitative Economic Analysis finds that legume vegetable growers, cereal grain growers, and pesticide registrants are anticipated to be the biggest beneficiaries of this rulemaking. EPA estimates the average cost savings resulting from an avoided residue field trial per crop commodity to be $101,700. Growers, particularly minor crop growers, will benefit from this rule through the availability of more registered pesticide products for small scale commodities, and registrants will benefit as expanded markets for pesticide products will lead to increased sales.

II. Background

A. Tolerance-Setting Requirements and Petitions From the Interregional Research Project Number 4 (IR-4) To Expand the Existing Crop Grouping System

As discussed in greater detail in Unit II. of the proposed rule (87 FR 1091, January 10, 2022 (FRL-5032-12-OSCPP)), EPA is authorized to establish tolerances under FFDCA section 408 (21 U.S.C. 346a). EPA establishes pesticide tolerances only after determining that they are safe, i.e., that there is a reasonable certainty that no harm will result from aggregate exposure to the pesticide. The U.S. Food and Drug Administration (FDA) and the U.S. Department of Agriculture (USDA) enforce compliance with tolerance limits.

Traditionally, tolerances are established for a specific pesticide and commodity combination. However, under EPA's crop grouping regulations (40 CFR 180.40 and 180.41), a single tolerance may be established that applies to a group of related commodities. For example, with these revisions, Crop Group 15-22: Cereal Grain Group will include 60 commodities. Crop group tolerances may be established based on residue data from designated representative commodities within the group. Representative commodities are selected based on EPA's determination that they are likely to bear the maximum level of residue that could occur on any crop within the group. The representative commodities for Crop Group 15-22 are wheat, barley, field corn, sweet corn, rice, and either grain sorghum or proso millet. Once a crop group tolerance is established, the tolerance level applies to all commodities within the group.

The changes identified in this action have been informed by petitions developed by the International Crop Grouping Consulting Committee (ICGCC) workgroup and submitted to EPA by a nation-wide cooperative project, IR-4 (Refs. 2 and 3). The petitions and the supporting monographs, as well as EPA's analyses of the petitions (Refs. 4-11), are included in the docket for this action.

B. Regulatory Burden Reductions and Cost Savings Achieved Through the Expansion of the Existing Crop Grouping System

In 2007, EPA prepared an Economic Analysis (EA) of the potential costs and benefits associated with the first proposed rule issued in this series of updates, entitled “Economic Analysis Proposed Expansion of Crop Grouping Program” (Ref. 12). EPA considers the findings of the 2007 EA to apply to each subsequent crop group rulemaking, including this final rule, due to the similarity in purpose and scope of each of those rulemakings. As discussed in the 2007 EA, EPA has determined that the crop grouping rulemakings are burden-reducing and cost-saving regulations.

The primary beneficiaries are minor crop producers and pesticide registrants. Minor crop producers benefit because lower registration costs will encourage more products to be registered on minor crops, providing additional tools (i.e., pesticides) for pest control. Pesticide registrants are expected to benefit as expanded markets for pesticide products will lead to increased sales. Additionally, the IR-4, which is publicly funded, is also expected to benefit from this rule as it will help IR-4 use its resources more efficiently in its efforts to ensure that minor or specialty crop growers have access to legal, registered uses of essential pest management tools such as pesticides and biopesticides. The Agency is also expected to benefit from broader operational efficiency gains.

C. Scheme for Organization of Revised and Pre-Existing Crop Groups

The generic crop group regulations include an explicit scheme for how revised crop groups will be organized in the regulations. In brief, the regulations at 40 CFR 180.40(j) specify that when a crop group is amended in a manner that expands or contracts its coverage of commodities, EPA will retain the pre-existing crop group in 40 CFR 180.41 and insert the new, related crop group immediately after the pre-existing crop group in the CFR. Although EPA will initially retain pre-existing crop groups that have been superseded by new crop groups, 40 CFR 180.40(j) states that EPA will not establish new tolerances under the pre-existing groups and that, at appropriate times, EPA will convert tolerances for pre-existing crop groups to tolerances with the coverage of the new crop group. Conversions to revised crop groups are mainly implemented through petitions submitted by IR-4 and registrants and can also be made through the registration review process.

III. Response to Public Comments

This unit provides a summary of the public comments on the proposed rule (87 FR 1091, January 10, 2022 (FRL-5032-12-OSCPP)), EPA's responses to those comments, and any resulting revisions to the regulatory text.

EPA received several comments that generally supported the proposed regulations and the Crop Group Program. EPA also received comments on general pesticide use, the overall need for continued regulation of pesticides, organic labeling practices, the importance of biodiversity, and on EPA's relationship to the farming community. One commenter noted that the revised regulations will not necessarily increase the amount of pesticides being used, but rather extend the options of pesticides that can be used on specific crop groups. Another commenter expressed a concern that the revised regulations would limit the pesticides that farmers could use on their crops and thus become a burden.

EPA maintains that these crop group revisions will not result in a decrease in available pesticide options. On the contrary, the Agency anticipates that revisions to the crop groups will result in no appreciable costs or negative impacts to consumers, specialty crop producers, pesticide registrants, the environment, or human health. As discussed in Unit I. of this final rule, specialty crop producers may gain access to pesticides that are registered on the crop group that would not have been available when a crop was not part of the group. Crop groups, such as the ones being revised in this final rule, allow EPA to enhance the Agency's ability to conduct food safety evaluations on crops for tolerance-setting purposes, promote global harmonization of food safety standards, reduce regulatory burden; and ensure food safety for agricultural goods. Comments related to organic labeling, use of specific pesticides, and promotion of biodiversity are outside the scope of this final rule.

A. Comments on the Amendments to Crop Group 6: Legume Vegetable Group and Crop Group 7: Forage and Hay of Legume Vegetables Group

EPA proposed to amend “Crop Group 6: Legume Vegetables (Succulent or Dried)” to update the commodity listings in the group. EPA proposed to name the new crop group “Crop Group 6-22 Legume Vegetable Group.” EPA also proposed to revise the subgroups to include 6 subgroups (the original three subgroups divided into their respective bean and pea subgroups):

• Crop Subgroup 6-22A, Edible podded bean subgroup;

• Crop Subgroup 6-22B, Edible podded pea subgroup;

• Crop Subgroup 6-22C, Succulent shelled bean subgroup;

• Crop Subgroup 6-22D, Succulent shelled pea subgroup;

• Crop Subgroup 6-22E, Dried shelled bean, except soybean, subgroup; and

• Crop Subgroup 6-22F, Dried shelled pea subgroup.

To ensure commodities are clearly defined and specific to which part of the plant the commodity covers, EPA proposed to modify and add several definitions to 40 CFR 180.1(g) that are relevant to Crop Groups 6 and 7. In addition to revisions to the name of Crop Group 7-22 and its subgroups, EPA proposed to change the description of the commodities from “Plant parts of any legume vegetable included in the legume vegetables that will be used as animal feed” to “Plant parts of any legume vegetable listed in crop group 6-22 that will be used as animal feed.” EPA also proposed several revisions to the crop subgroups to parallel the changes that were proposed for the commodities and representative commodities of Crop Group 6-22. A more detailed description of the proposed changes to Crop Groups 6 and 7, and the rationale behind those changes can be found in Unit III. of the proposed rule (87 FR 1091, January 19, 2022 (FRL-5032-12-OSCPP)).

EPA received one comment on the specifics of the proposed changes to Crop Group 6 and no comments on the specifics of the proposed changes to Crop Group 7-22: Forage and Hay of Legume Vegetables Group. EPA is finalizing the changes to Crop Group 7-22: Forage and Hay of Legume Vegetables Group as proposed.

The commenter was strongly supportive of the revisions to these crop groups but suggested some discrete changes. The commenter notes that the varieties listed for dry peas do not include yellow peas, wrinkled peas, or marrowfat peas. The commenter suggests including yellow peas, wrinkled peas, and marrowfat peas as additional examples of Pisum spp. in subgroup 6-22F (dry seed peas). According to U.S. Federal Grain Inspection Service (FGIS) Grading Standards, Smooth Dry Peas include yellow types, green types, mottled types, and others. Commercially, most of the dried pea acres planted are yellow peas or green peas. Wrinkled peas are the mature seed peas raised to support the succulent peas in subgroup 6-22B and 6-22D. The mature seed would fall under the definition of dried peas, subgroup 6-22F. Marrowfat peas are not widely raised in the U.S. but they fit in the subgroup of dried peas. The commenter believes the list of commodities under dry peas should include these three categories.

In the proposed rule, EPA requested comment on whether EPA should include additional examples of Pisum spp. EPA agrees with the commenter that yellow peas, wrinkled peas, and marrowfat peas are additional examples of Pisum spp. and accordingly EPA is including these as examples of Pisum spp. in group 6-22 and subgroup 6-22F (dry seed peas) and in the definition of pea in 40 CFR 180.1(g).

The commenter noted that the new standard clearly defines chickpeas as a pea. The previous standard included chickpeas as a dry bean and a dry pea. The commenter asks whether products currently in use based on only the dry bean as the representative crop will be required to be re-evaluated for dry peas. The commenter is in favor of keeping chickpeas as both a dry bean and a dry pea commodity.

EPA acknowledges that chickpea has previously been classified as a pea and a bean for pesticide tolerance purposes (see 40 CFR 180.1(g)). However, to facilitate international pesticide tolerance harmonization (e.g., Codex classifies chickpea as a pea) and avoid confusion when interpreting multiple potential tolerance levels for the same commodity, chickpea will be included within the pea subgroups in the revised Crop Group 6. This approach will not result in the removal of any existing chickpea tolerances or changes in registration for use on chickpea. For example, an existing tolerance on subgroup 6C (dried peas and beans)—which includes chickpea—would have been supported by field trials on both a pea and a bean. That same data could, in turn, support a tolerance petition for subgroups 6-22E (dry beans) and 6-22F (dry peas), with 6-22F covering chickpeas. Also, tolerance petitions regarding existing “bean” tolerances (per 40 CFR 180.1(g)) would convert to both the new bean subgroups (6-22A, C, and/or E) as well as separate applicable chickpea tolerances (e.g., “chickpea, dry seed”). Again, the revisions to old crop group 6 and the related definitions in 40 CFR 180.1 will not result in removal of pesticide tolerances. Furthermore, EPA notes that establishing the new group/subgroups does not automatically result in changes to existing tolerances; such an update requires a tolerance petition or will be implemented through the registration review process. Overall, the separation into further subgroups delineating peas and beans is anticipated to facilitate pesticide tolerances and their data requirements where only pea or only bean registrations are desired.

The commenter recommends that the subgroups 6-22E and 6-22F use the term “Pulse” in the title/description. The commenter notes that recent papers published in the scientific journal, Nutrients, describe the need to standardize scientific references to the dried seeds of legumes as pulses. Pulse is a term used in many MRL standards worldwide and the commenter believes that EPA should use the term to further harmonize U.S. standards and help facilitate trade.

EPA agrees with the commenter's suggested terminology addition and is adding the term “Pulse” in the title/description of subgroups 6-22E and 6-22F (Crop Subgroup 6-22F: Pulses, dried shelled pea subgroup). At one point the comment also refers to adding the term “Pulse” to subgroup 6-22D (the succulent shelled pea subgroup). Based on the entirety of the comment and the specific suggested revisions, EPA believes the reference to subgroup 6-22D was a typographical error. In any event, EPA is not adding the term “Pulse” to subgroup 6-22D because it refers to dried seeds of legume, not succulent shelled peas.

The commenter recommends adding fava (also referred to as “faba”) where broad bean is listed. The commenter states that faba beans are increasingly important as an alternative pulse crop because of their ability to fix atmospheric Nitrogen, their importance to sustainability and their high protein content. EPA agrees fava bean is a synonym for broad bean and had, in some instances, included “fava bean” parenthetically along with broad bean, but has made further edits to address this comment.

The commenter recommends removal of “vegetable soybean (edamame)” from subgroup 6-22E. Subgroup 6-22E is for bean pulses. The commenter explains that edamame is, by definition, the succulent seed of soy and thus states that edamame fits in the category for garden peas, snap beans, and edible podded peas. The dried seeds of edamame would be classified as soy beans or soya beans. The commenter believes that they should be classified separately from pulses because these seeds have an oil component and are traded as oilseeds.

EPA agrees with the commenter and is removing edamame from subgroup 6-22E. EPA notes that the IR-4 petition also did not include edamame in their proposal for the dried seed bean group.

Other than these adjustments, EPA is finalizing the changes to Crop Group 6-22: Legume Vegetable Group as proposed.

B. Comments on the Amendments to Crop Group 15: Cereal Grain Group and Crop Group 16: Forage, Fodder and Straw of Cereal Grains Group

EPA proposed to add additional commodities to the revised Group 15-22: Cereal Grain Group. These include twenty-one listings that simply reflect specific terms for commodities already included in the preexisting crop group (i.e., baby corn and the different varieties of oat and wheat) and twenty-four new commodities: amaranth, purple amaranth, tartary buckwheat, annual canarygrass, cañihua, chia, cram cram, black fonio, white fonio, huauzontle, Inca wheat, Job's tears, barnyard millet, finger millet, foxtail millet, little millet, prince's feather, psyllium, blond psyllium, quinoa, African rice, teff, intermediate wheatgrass, and eastern wild rice. EPA proposed to create 6 subgroups: Crop Subgroup 15-22A, Wheat subgroup; Crop Subgroup 15-22B, Barley subgroup; Crop Subgroup 15-22C, Field corn subgroup; Crop Subgroup 15-22D, Sweet corn subgroup; Crop Subgroup 15-22E, Grain sorghum and millet subgroup; and Crop Subgroup 15-22F, Rice subgroup. In addition to adding subgroups, EPA proposed changes to the representative commodities. EPA proposed to keep the preexisting representative commodities for Crop Group 15, add barley as a representative crop to accommodate the new Barley Subgroup (15-22B), and add proso millet as an alternative representative commodity for better international harmonization of the Grain Sorghum and Millet Subgroup (15-22D). EPA proposed to rename the revised crop group “Crop Group 16-22: Forage, Hay, Stover, and Straw of Cereal Grain Group.” Consistent with the changes proposed for Crop Group 15-22, EPA proposed to add the same additional commodities to Crop Group 16-22. A more detailed description of the proposed changes to Crop Groups 15 and 16, and the rationale behind those changes can be found in Unit III. of the proposed rule (87 FR 1091, January 10, 2022 (FRL-5032-12-OSCPP)).

EPA received one comment on the specifics of the proposed changes to Crop Group 15 and no comments on the specifics of the proposed changes to Crop Group 16. EPA is finalizing the changes to Crop Group 16-22: Forage, Hay, Stover, and Straw of Cereal Grain Group as proposed. In the final regulatory text EPA is correcting a typographical error that appeared in the proposed regulatory text for Crop Group 15. EPA proposed the inclusion of “Princess feather, Amaranthus hypochondriacus L.” This has been changed to “Prince's feather” because this is the correct name for this commodity.

One commenter states it is unclear whether benefits or negatives exist with revising the cereal grains crop group to create a rice subgroup. The commenter states that it is difficult for the industry to support a rice subgroup without knowledge of the benefits or risks. The commenter fully supports changes where rice, as a representative crop, would receive a pesticide tolerance or maximum residue limit (MRL). The commenter notes that current pesticide registrations for the cereal grains crop group often exclude rice. A cereal grain tolerance that includes rice would be of benefit for U.S. tolerances and resulting pesticide registrations. However, rice receiving a pesticide tolerance as part of the crop group could be problematic for foreign MRLs. Harmonization of rice specific tolerances and MRLs have become more important as countries receiving California rice are in the early stages of developing regulation for residue limits on imports. The commenter states that countries with high rice consumption do not accept MRLs for cereal grains because the residue data must be specific to rice. Pesticide registrants have become reluctant to submit the necessary data to countries establishing the positive list for MRLs. Harmonization is important with more countries establishing positive lists.

The commenter states that there are additional barriers involved with registering pesticides for use on rice in California. The rationale to not register pesticides on California rice relates to the expense and time commitment for developing aquatic dissipation studies even though the data is a requirement in all states receiving a pesticide registration on the commodity.

EPA acknowledges the issues related to pesticide registrations and data requirements with respect to rice and how those issues have resulted in pesticide tolerances with rice “exceptions”. The proposed revisions do not change data requirements related to pesticide registrations that can, in turn, affect tolerances on rice (e.g., the example issue mentioned by the commenter related to the aquatic dissipation studies will remain). Additionally, a tolerance for the entire crop group will still require field trial residue data on rice. However, when a registration on rice is not desired, a benefit of the change will be the clarity resulting from tolerances being established on subgroups A through E (i.e., the “non-rice” subgroups) instead of using the “except rice” convention. Furthermore, EPA anticipates better harmonization internationally as a result of the adoption of the subgroups, including the rice subgroup in particular (e.g., EPA is essentially adopting the same 6 cereal grain subgroups as Codex). Finally, as is the case when any crop group or subgroup is established, there is the benefit to minor crop growers who are provided with additional crop protection tools by way of field trials conducted on “representative commodities”. Whereas, previously, crop-specific field trial data might have been required to establish tolerances on African rice, wild rice or Eastern wild rice, field trial data on rice will now formally cover those other minor crops as it is the only data required to establish a rice subgroup tolerance.

Other than correcting the name of Prince's feather, EPA is finalizing the changes to Crop Group 15-22: Cereal Grain Group as proposed.

IV. References

The following is a listing of the documents that are specifically referenced in this document. The docket includes these documents and other information considered by EPA, including documents that are referenced within the documents that are included in the docket, even if the referenced document is not physically located in the docket. For assistance in locating these other documents, please consult the person listed under FOR FURTHER INFORMATION CONTACT.

1. U.S. EPA, “Burden Reduction from the Expansion of Crop Group Program,” August 5, 2022.

2. USDA IR-4 Petition. William P. Barney. Proposed revisions to Legume Vegetables (Succulent or Dried), Crop Group 6 and Foliage of Legume Vegetables, Crop Group 7, Technical Amendment to 40 CFR 180.41(c)(6) and (c) IR-4 PR #11237 (Legume Vegetable) and PR #11238 (Foliage of Legume Vegetables). Volumes 1-4. July 9, 2013.

3. USDA IR-4 Petition. William P. Barney. Proposed revisions to Cereal Grains, Crop Group 15 and Forage, Fodder and Straw of Cereal Grains Crop Group 16, Technical Amendment to 40 CFR 180.41(c)(9); IR-4 PR #11394. Volumes 1-3. February 18, 2014.

4. Schneider, Bernard A. Recommendations for Amending Crop Group 15 Cereal Grains and Crop Group 16 Forage, Fodder and Straw of Cereal Grains to Approve Its Members, Representative Commodities, Crop Subgroups, and Commodity Definitions Including Grasses for Sugar and Syrup Production September 6, 2018, Updated April 29, 2020.

5. Schneider, Bernard A. EPA Memorandum: Crop Grouping—Part 22: Analysis of the USDA IR-4 Petition to Amend the Crop Group Regulation 40 CFR 180.41 (c) (22) and Commodity Definitions [40 CFR 180.1 (g)] Related to the Crop Group 15: Cereal Grains and the Forage, Fodder and Straw of Cereal Grains Group 16 [40 CFR 180.41 (c) (23)], and Commodity Definition “Grasses for Sugar and Syrup Production. June 8, 2018, updated April 29, 2020, Updated October 19, 2021.

6. U.S. EPA. Chemistry Science Advisory Council (ChemSAC) Minutes. Response to Questions by the Crop Group Implementation Focus Group (CGIFG) on Amending the Cereal Grain Crop Group 15 and the Forage, Fodder, and Straw of the Cereal Grain Crop Group 16. April 8, 2020.

7. Schneider, Bernard A. EPA Memorandum: Response to Questions by the Crop Group Implementation Focus Group (CGIFG) on Amending the Cereal Grain Crop Group 15 and the Forage, Fodder and Straw of Cereal Grain Crop Group 16. November 18, 2019, Updated December 11, 2019 and April 8, 2020.

8. U.S. EPA. Chemistry Science Advisory Council (ChemSAC) Minutes. Recommendations to the HED Chemistry Science Advisory Council Regarding Updates to Crop Groups 6 (Legume Vegetables) and 7 (Foliage of Legume Vegetables). October 25, 2017.

9. Schneider, Bernard A. EPA Memorandum. Crop Grouping Part XVII: Analysis of the USDA IR-4 Petition to Amend the Crop Group Regulation 40 CFR 180.41 (c)(7) and Commodity Definitions (40 CFR 180.1(g)) Related to the Crop Group 6 Legume Vegetables. September 27, 2016, updated February 7, 2017.

10. Schneider, Bernard A. Recommendations for Amending Crop Group 6 Legume Vegetable to Approve Its Members, Representative Commodities, Crop Subgroups, and Associated Commodity Definitions. February 8, 2017.

11. Schneider, Bernard A. Recommendations for Amending Crop Group 7 Foliage of Legume Vegetable to Approve Its Members, Representative Commodities, Crop Subgroups, and Associated Commodity definitions. September 29, 2016.

12. U.S. EPA, “Economic Analysis of the Proposed Expansion of the Crop Group Program,” February 12, 2007.

V. Statutory and Executive Order Reviews

Additional information about these statutes and Executive Orders can be found at https://www.epa.gov/laws-regulations/laws-and-executive-orders.

A. Executive Order 12866: Regulatory Planning and Review and Executive Order 13563: Improving Regulation and Regulatory Review

This action is not a significant regulatory action and was therefore not submitted to the Office of Management and Budget (OMB) for review under Executive Orders 12866 (58 FR 51735; October 4, 1993) and 13563 (76 FR 3821, January 21, 2011).

B. Paperwork Reduction Act (PRA)

This action does not impose any new information collection requirements that would require additional review or approval by OMB under the provisions of the PRA, 44 U.S.C. 3501 et seq. Because this action expands the number of crops in the affected crop groups, if tolerances are established for those crop groups, they will have broader applicability. Crop groupings enhance our ability to conduct food safety evaluations on crops for tolerance-setting purpose; allowing for tolerances to be established for the defined crop groups rather than individually for each crop. For future tolerance actions, petitioners will be able to submit the same number of residue field trial studies and, using the updated crop groups, obtain tolerances that cover more crops. This action does not impose any new information collection burden under the PRA. OMB has previously approved the information collection activities contained in the existing regulations related to tolerance petitions for food/feed crops under OMB control number 2070-0024.

C. Regulatory Flexibility Act (RFA)

I certify that this action will not have a significant economic impact on a substantial number of small entities under the RFA, 5 U.S.C. 601 et seq. In making this determination, EPA concludes that the impact of concern for this rule is any significant adverse economic impact on small entities, and the Agency is certifying that this rule will not have a significant economic impact on a substantial number of small entities because the rule relieves regulatory burden (Ref. 1).

This action provides regulatory relief and regulatory flexibility. The new crop groups ease the process for pesticide manufacturers to obtain pesticide tolerances on greater numbers of crops. Pesticides will be more widely available to growers for use on crops, particularly specialty crops. Rather than having any adverse impact on small businesses, this rule will relieve regulatory burden for all directly regulated small entities. We have therefore concluded that this action will relieve regulatory burden for all directly regulated small entities.

D. Unfunded Mandates Reform Act (UMRA)

This action does not contain any unfunded mandate as described in UMRA, 2 U.S.C. 1531-1538, and does not significantly or uniquely affect small governments. This action imposes no enforceable duty on any state, local or tribal governments or the private sector.

E. Executive Order 13132: Federalism

This action does not have federalism implications as specified in Executive Order 13132 (64 FR 43255, August 4, 1999). It will not have substantial direct effects on the states, on the relationship between the national government and the states, or on the distribution of power and responsibilities among the various levels of government. Thus, Executive Order 13132 does not apply to this action.

F. Executive Order 13175; Consultation and Coordination With Indian Tribal Governments

This action does not have tribal implications as specified in Executive Order 13175 (65 FR 67249, November 9, 2000) because it will not have any effect on tribal governments, on the relationship between the Federal Government and the Indian tribes, or on the distribution of power and responsibilities between the Federal Government and Indian tribes. Thus, Executive Order 13175 does not apply to this action.

G. Executive Order 13045; Protection of Children From Environmental Health Risks and Safety Risks

The EPA interprets Executive Order 13045 (62 FR 19885, April 23, 1997) as applying only to those regulatory actions that concern environmental health or safety risks that the EPA has reason to believe may disproportionately affect children, per the definition of “covered regulatory action” in section 2-202 of the Executive Order. This action is not subject to Executive Order 13045 because it does not concern an environmental health risk or safety risk.

H. Executive Order 13211: Actions That Significantly Affect Energy Supply, Distribution, or Use

This action is not subject to Executive Order 13211 (66 FR 28355, May 22, 2001) because it is not a significant regulatory action under Executive Order 12866.

I. National Technology Transfer and Advancement Act (NTTAA)

This action does not involve technical standards as specified in NTTAA section 12(d), 15 U.S.C. 272 note.

J. Executive Order 12898: Federal Actions To Address Environmental Justice in Minority Populations and Low-Income Populations

EPA believes that this action is not subject to Executive Order 12898 (59 FR 7629, February 16, 1994) because it does not establish an environmental health or safety standard. This action is a procedural change and does not have any impact on human health or the environment. As previously discussed, crop groups are established when residue data for certain representative crops are used to establish pesticide tolerances for a group of crops that are botanically or taxonomically related. Representative crops of a crop group or subgroup are those crops whose residue data can be used to establish a tolerance for the entire group or subgroup.

K. Congressional Review Act (CRA)

This action is subject to the CRA, 5 U.S.C. 801 et seq., and EPA will submit a rule report to each House of the Congress and to the Comptroller General of the United States. This action is not a “major rule” as defined by 5 U.S.C. 804(2).

List of Subjects in 40 CFR Part 180

Administrative practice and procedure, Commodities, Environmental protection, Pesticides and pests.

Dated: August 29, 2022.
Michal Freedhoff,
Assistant Administrator, Office of Chemical Safety and Pollution Prevention.

Therefore, for the reasons stated in the preamble, EPA is amending 40 CFR chapter I to read as follows:

PART 180—TOLERANCES AND EXEMPTIONS FOR PESTICIDE CHEMICAL RESIDUES IN FOOD

1. The authority citation for part 180 continues to read as follows:

Authority: 21 U.S.C. 321(q), 346a and 371.

2. In § 180.1, amend the table to paragraph (g) by:

a. Revising the entry of “Bean”;

b. Removing the entry of “Bean, dry”;

c. Adding in alphabetical order entries for “Bean, dry, seed” and “Bean, edible podded”;

d. Revising the entry of “Bean, succulent”;

e. Adding in alphabetical order an entry for “Bean, succulent shelled”;

f. Revising the entry of “Pea”;

g. Removing the entry of “Pea, dry”;

h. Adding in alphabetical order entries for “Pea, dry, seed” and “Pea, edible podded”;

i. Revising the entry of “Pea, succulent”; and

j. Adding in alphabetical order an entry for “Pea, succulent shelled”.

The additions and revisions read as follows:

§ 180.1 Definitions and interpretations.

* * * * *

(g) * * *

A | B
* * * * * * *
Bean | Cicer arietinum (chickpea, garbanzo bean); Lupinus spp. (including, but not limited to, Andean lupin, blue lupin, grain lupin, sweet lupin, white sweet lupin, white lupin, and yellow lupin). Phaseolus spp. (including, but not limited to, black bean, cranberry bean, dry bean, field bean, French bean, garden bean, great northern bean, green bean, kidney bean, lima bean, navy bean, pink bean, pinto bean, red bean, scarlet runner bean, snap bean, tepary bean, yellow bean, and wax bean); Broad bean (fava bean, faba bean); Goa bean (asparagus pea and winged bean); Vigna spp. (including adzuki bean, asparagus bean, blackeyed pea, catjang bean, Chinese longbean, cowpea, crowder pea, moth bean, mung bean, rice bean, southern pea, urd bean, and yardlong bean); Guar bean; Horse gram; Jackbean; Lablab bean (hyacinth bean); Morama bean; African yam bean; American potato bean; Vegetable soybean (edamame); Sword bean; Velvetbean; Winged pea; cultivars, varieties and/or hybrids of these commodities. [Note: A variety of pesticide tolerances have been previously established for pea and/or bean. Chickpea/garbanzo bean is also listed in the definition for “pea”. For garbanzo bean/chickpea only, the highest established pea or bean tolerance will apply to pesticide residues found in this commodity].
Bean, dry, seed | All beans in the entry “Bean” in dry seed form.
Bean, edible podded | All beans in the entry “Bean” in edible podded form.
Bean, succulent | All beans in the entry “Bean” in edible podded or succulent shelled form.
Bean, succulent shelled | All beans in the entry “Bean” in succulent shelled form.
* * * * * * *
Pea | Cajanus cajan (pigeon pea); Cicer arietinum (chickpea, garbanzo bean); Lens culinaris (lentil); Grass pea; Pisum spp. (including, but not limited to dry pea, dwarf pea, English pea, field pea, garden pea, green pea, marrowfat pea, snap pea, snow pea, sugar snap pea, wrinkled pea and yellow pea); cultivars, varieties and/or hybrids of these commodities. [Note: A variety of pesticide tolerances have been previously established for pea and/or bean. Chickpea/garbanzo bean is also listed in the definition for “bean”. For garbanzo bean/chickpea only, the highest established pea or bean tolerance will apply to pesticide residues found in this commodity].
Pea, dry, seed | All peas in the entry “Pea” in dry seed form.
Pea, edible podded | All peas in the entry “Pea” in edible podded form.
Pea, succulent | All peas in the entry “Pea” in edible podded or succulent shelled form.
Pea, succulent shelled | All peas in the entry “Pea” in succulent shelled form.
* * * * * * *

* * * * *

3. Amend § 180.41 paragraph (c) by:

a. Redesignating paragraphs (c)(30) through (35) as paragraphs (c)(34) through (39) respectively;

b. In newly redesignated paragraph (c)(39)(ii), removing “Table 3” and adding “table” in its place;

c. Redesignating paragraph (c)(29) as paragraph (c)(33) and adding a new paragraph (c)(29);

d. Redesignating paragraph (c)(28) as paragraph (c)(32);

e. In newly redesignated paragraph (c)(32)(iv), adding a heading to read “Tolerances established after November 6, 2020.”

f. Redesignating paragraph (c)(27) as paragraph (c)(31) and adding a new paragraph (c)(27);

g. Redesignating paragraph (c)(26) as paragraph (c)(30);

h. Redesignating paragraph (c)(25) as paragraph (c)(28);

i. Redesignating paragraphs (c)(14) through (24) as paragraphs (c)(16) through (26) respectively;

j. Redesignating paragraph (c)(13) as paragraph (c)(15);

k. Redesignating paragraph (c)(12) as paragraph (c)(14) and adding a new paragraph (c)(12);

l. Redesignating paragraph (c)(11) as paragraph (c)(13); and

m. Redesignating paragraph (c)(10) as paragraph (c)(11) and adding a new paragraph (c)(10).

The additions read as follows.

§ 180.41 Crop group tables.

* * * * *

(c) * * *

(10) Crop Group 6-22. Legume Vegetable Group.

(i) Representative commodities. Bean (Phaseolus spp. or Vigna spp.; one edible podded cultivar, one succulent shelled cultivar, and one dried seed); Pea (Pisum spp; one edible podded cultivar, one succulent shelled cultivar, and one dried seed); and Soybean, seed.

(ii) Commodities. The following table is a list of all commodities included in Crop Group 6-22 and includes cultivars, varieties and/or hybrids of these commodities.

Table 1 to Paragraph (c)(10)—Crop Group 6-22: Legume Vegetable Group:
Commodities | Related crop subgroups
African yam bean, dry seed, Sphenostylis stenocarpa (Hochst. ex A. Rich.) Harms | 6-22E
American potato bean, dry seed, Apios americana Medik | 6-22E
Bean (Lupinus spp.), succulent shelled (including, but not limited to Andean lupin, blue lupin, grain lupin, sweet lupin, white lupin, white sweet lupin, and yellow lupin) | 6-22C
Bean (Lupinus spp.), dry seed (including, but not limited to Andean lupin, blue lupin, grain lupin, sweet lupin, white lupin, white sweet lupin, and yellow lupin) | 6-22E
Bean (Phaseolus spp.), edible podded (including, but not limited to French bean, garden bean, green bean, kidney bean, navy bean, scarlet runner bean, snap bean, and wax bean) | 6-22A
Bean (Phaseolus spp.), succulent shelled (including, but not limited to lima bean, scarlet runner bean, and wax bean) | 6-22C
Bean (Phaseolus spp.), dry seed (including, but not limited to black bean, cranberry bean, dry bean, field bean, French bean, garden bean, great northern bean, green bean, kidney bean, lima bean, navy bean, pink bean, pinto bean, red bean, scarlet runner bean, tepary bean, and yellow bean) | 6-22E
Bean (Vigna spp.), edible podded (including, but not limited to asparagus bean, catjang bean, Chinese longbean, cowpea, moth bean, mung bean, rice bean, urd bean, and yardlong bean) | 6-22A
Bean (Vigna spp.), succulent shelled (including, but not limited to blackeyed pea, catjang bean, cowpea, crowder pea, moth bean, and southern pea) | 6-22C
Bean (Vigna spp.), dry seed (including, but not limited to adzuki bean, asparagus bean, blackeyed pea, catjang bean, Chinese longbean, cowpea, crowder pea, moth bean, mung bean, rice bean, southern pea, urd bean, and yardlong bean) | 6-22E
Broad bean (fava bean), succulent shelled, Vicia faba L. subsp. faba var. faba | 6-22C
Broad bean (fava bean), dry seed, Vicia faba L. subsp. faba var. faba | 6-22E
Chickpea (garbanzo), edible podded, Cicer arietinum L | 6-22B
Chickpea (garbanzo), succulent shelled, Cicer arietinum L | 6-22D
Chickpea (garbanzo), dry seed, Cicer arietinum L | 6-22F
Goa bean, edible podded (asparagus pea and winged bean), Psophocarpus tetragonolobus (L.) DC | 6-22A
Goa bean, succulent shelled (asparagus pea and winged bean), Psophocarpus tetragonolobus (L.) DC | 6-22C
Goa bean, dry seed (asparagus pea and winged bean), Psophocarpus tetragonolobus (L.) DC | 6-22E
Grass pea, edible podded, Lathyrus sativus L | 6-22B
Grass pea, dry seed, Lathyrus sativus L | 6-22F
Guar bean, edible podded, Cyamopsis tetragonoloba (L.) Taub | 6-22A
Guar bean, dry seed, Cyamopsis tetragonoloba (L.) Taub | 6-22E
Horse gram, dry seed, Macrotyloma uniflorum (Lam.) Verdc | 6-22E
Jackbean, edible podded, Canavalia ensiformis (L.) DC | 6-22A
Jackbean, succulent shelled, Canavalia ensiformis (L.) DC | 6-22C
Jackbean, dry seed, Canavalia ensiformis (L.) DC | 6-22E
Lablab bean (hyacinth bean), edible podded, Lablab purpureus (L.) Sweet subsp. purpureus | 6-22A
Lablab bean (hyacinth bean), succulent shelled, Lablab purpureus (L.) Sweet subsp. purpureus | 6-22C
Lablab bean (hyacinth bean), dry seed, Lablab purpureus (L.) Sweet subsp. Purpureus | 6-22E
Lentil, edible podded, Lens culinaris Medik. subsp. culinaris | 6-22B
Lentil, succulent shelled, Lens culinaris Medik. subsp. culinaris | 6-22D
Lentil, dry seed, Lens culinaris Medik. subsp. culinaris | 6-22F
Morama bean, dry seed, Tylosema esculentum (Burch.) A. Schreib | 6-22E
Pea (Pisum spp.), edible podded (including, but not limited to dwarf pea, green pea, snap pea, snow pea, and sugar snap pea) | 6-22B
Pea (Pisum spp.), succulent shelled (including, but not limited to, English pea, garden pea, and green pea) | 6-22D
Pea (Pisum spp.), dry seed (including, but not limited to dry pea, field pea, garden pea, yellow pea, wrinkled pea, marrowfat pea, and green pea) | 6-22F
Pigeon pea, edible podded, Cajanus cajan (L.) Huth | 6-22B
Pigeon pea, succulent shelled, Cajanus cajan (L.) Huth | 6-22D
Pigeon pea, dry seed, Cajanus cajan (L.) Huth | 6-22F
Soybean, seed, Glycine max (L.) Merr | N/A
Sword bean, edible podded, Canavalia gladiata (Jacq.) DC | 6-22A
Sword bean, dry seed, Canavalia gladiata (Jacq.) DC | 6-22E
Vegetable soybean, edible podded (edamame), Glycine max (L.) Merr | 6-22A
Vegetable soybean, succulent shelled (edamame), Glycine max (L.) Merr | 6-22C
Velvetbean, edible podded, Mucuna pruriens (L.) DC | 6-22A
Velvetbean, succulent shelled, Mucuna pruriens (L.) DC | 6-22C
Velvetbean, dry seed, Mucuna pruriens (L.) DC | 6-22E
Winged pea, edible podded, Lotus tetragonolobus L | 6-22A
Winged pea, dry seed, Lotus tetragonolobus L | 6-22E
Cultivars, varieties, and/or hybrids of these commodities

(iii) Crop subgroups. The following table identifies the crop subgroups for Crop Group 6-22, specifies the representative commodities for each subgroup and lists all the commodities included in each subgroup.

Table 2 to Paragraph (c)(10)—Crop Group 6-22: Subgroup Listing
Representative commodities | Commodities
Crop Subgroup 6-22A: Edible podded bean subgroup
Any cultivar of edible podded bean Phaseolus spp. or Vigna spp | Bean (Phaseolus spp.; including, but not limited to French bean, garden bean, green bean, kidney bean, navy bean, scarlet runner bean, snap bean, and wax bean); Bean (Vigna spp.; including, but not limited to asparagus bean, catjang bean; Chinese longbean, cowpea, moth bean, mung bean, rice bean, urd bean, and yardlong bean); goa bean; guar bean; jackbean; lablab bean; vegetable soybean (edamame); sword bean; winged pea; velvetbean; cultivars, varieties, and/or hybrids of these commodities.
Crop Subgroup 6-22B: Edible podded pea subgroup
Any cultivar of edible podded pea, Pisum spp | Pea (Pisum spp.; including, but not limited to dwarf pea, green pea, snap pea, snow pea, and sugar snap pea); grass pea; lentil; pigeon pea; chickpea; cultivars, varieties, and/or hybrids of these commodities.
Crop Subgroup 6-22C: Succulent shelled bean subgroup
Any succulent shelled cultivar of bean, Phaseolus spp., or Vigna spp | Bean (Phaseolus spp.; including, but not limited to lima bean, scarlet runner bean, and wax bean); Bean (Vigna spp.; including, but not limited to blackeyed pea, catjang bean, cowpea, crowder pea, moth bean, and southern pea); Bean (Lupinus spp.; including, but not limited to Andean lupin, blue lupin, grain lupin, sweet lupin, white lupin, white sweet lupin, and yellow lupin); broad bean (fava bean); jackbean; goa bean; lablab bean; vegetable soybean (edamame); velvetbean; cultivars, varieties, and/or hybrids of these commodities.
Crop Subgroup 6-22D: Succulent shelled pea subgroup
Any succulent shelled cultivar of garden pea, Pisum spp | Chickpea; lentil; Pea (Pisum spp.; including, but not limited to English pea, garden pea, and green pea); pigeon pea; cultivars, varieties, and/or hybrids of these commodities.
Crop Subgroup 6-22E: Pulses, dried shelled bean, except soybean, subgroup
Any one dried seed of bean, Phaseolus spp., or Vigna spp | African yam bean; American potato bean; Bean (Lupinus spp.; including, but not limited to Andean lupin, blue lupin, grain lupin, sweet lupin, white lupin, white sweet lupin, and yellow lupin); Bean (Phaseolus spp.; including, but not limited to black bean, cranberry bean, dry bean, field bean, French bean, garden bean, great northern bean, green bean, kidney bean, lima bean, navy bean, pink bean, pinto bean, red bean, scarlet runner bean, tepary bean, and yellow bean); Bean (Vigna spp.; including, but not limited to adzuki bean, asparagus bean, blackeyed pea, catjang bean, Chinese longbean, cowpea, crowder pea, moth bean, mung bean, rice bean, southern pea, urd bean, and yardlong bean); broad bean (fava bean); guar bean; goa bean; horse gram; jackbean; lablab bean; morama bean; sword bean; winged pea; velvetbean; cultivars, varieties, and/or hybrids of these commodities.
Crop Subgroup 6-22F: Pulses, dried shelled pea subgroup
Any one dried seed of pea, Pisum spp | Pea (Pisum spp.; including, but not limited to dry pea, field pea, green pea, yellow pea, wrinkled pea, marrowfat pea, and garden pea); chickpea; grass pea; lentil; pigeon pea; cultivars, varieties, and/or hybrids of these commodities.

* * * * *

(12) Crop Group 7-22. Forage and Hay Legume Vegetable Group.

(i) Representative commodities. Any cultivar of bean (Phaseolus spp. or cowpea (Vigna unguiculata (L.) Walp)); field pea (Pisum sativum L. subsp. sativum var. arvense (L.) Poir.); and soybean (Glycine max (L.) Merr.).

(ii) Commodities. The following table lists the commodities included in Crop Group 7-22.

Table 1 to Paragraph (c)(12)—Crop Group 7-22: Forage and Hay for Legume Vegetable Group
Representative commodities | Commodities
Any cultivar of bean (Phaseolus spp. or cowpea (Vigna unguiculata (L.) Walp)); field pea (Pisum sativum L. subsp. sativum var. arvense (L.) Poir.); and soybean (Glycine max (L.) Merr.) | Plant parts of any legume vegetable listed in crop group 6-22 that will be used as animal feed.

(iii) Crop subgroup. The following table identifies the crop subgroup for Crop Group 7-22 and specifies the representative commodities for the subgroup, and lists all the commodities included in the subgroup.

Table 2 to Paragraph (c)(12)—Crop Group 7-22 Subgroup Listing
Representative commodities | Commodities
Crop Subgroup 7-22A. Forage and hay of legume vegetables (except soybeans) subgroup
Any cultivar of bean (Phaseolus spp. or cowpea (Vigna unguiculata (L.) Walp)); field pea (Pisum sativum L. subsp. sativum var. arvense (L.) Poir.) | Plant parts of any legume vegetable listed in crop group 6-22 (except soybeans) that will be used as animal feed.

* * * * *

(27) Crop Group 15-22. Cereal Grain Group.

(i) Representative commodities. Wheat, barley, field corn, sweet corn, rice and either grain sorghum or proso millet.

(ii) Commodities. The following table is a list of all commodities included in Crop Group 15-22 and includes cultivars, varieties and/or hybrids of these commodities.

Table 1 to Paragraph (c)(27)—Crop Group 15-22: Cereal Grain Group
Commodities | Related crop subgroups
Amaranth, grain, Amaranthus spp | 15-22A
Amaranth, purple, Amaranthus cruentus L | 15-22A
Baby corn, Zea mays L. subsp. mays | 15-22D
Barley, Hordeum vulgare L. subsp. vulgare | 15-22B
Buckwheat, Fagopyrum esculentum Moench | 15-22B
Buckwheat, tartary, Fagopyrum tataricum (L.) Gaertn | 15-22B
Canarygrass, annual, Phalaris canariensis L | 15-22B
Cañihua, Chenopodium pallidicaule Aellen | 15-22A
Chia, Salvia hispanica L | 15-22A
Corn, field, Zea mays L. subsp. mays | 15-22C
Corn, sweet, Zea mays L. subsp. mays | 15-22D
Cram cram, Cenchrus biflorus Roxb | 15-22A
Fonio, black, Digitaria iburua Stapf | 15-22E
Fonio, white, Digitaria exilis (Kippist) Stapf | 15-22E
Grain sorghum, Sorghum bicolor (L.) Moench | 15-22E
Huauzontle grain, Chenopodium berlandieri Moq. subsp. nuttalliae (Saff.) H. D. Wilson & Heiser and Chenopodium berlandieri Moq | 15-22A
Inca wheat, Amaranthus caudatus L | 15-22A
Job's tears, Coix lacryma-jobi L., Coix lacryma-jobi L. var. ma-yun (Rom. Caill.) Stapf | 15-22E
Millet, barnyard, Echinochloa frumentacea Link | 15-22E
Millet, finger, Eleusine coracana (L.) Gaertn. subsp. coracana | 15-22E
Millet, foxtail, Setaria italica (L.) P. Beauv. subsp. italic | 15-22E
Millet, little, Panicum sumatrense Roth | 15-22E
Millet, pearl, Pennisetum glaucum (L.) R. B. r | 15-22E
Millet, proso, Panicum miliaceum L. subsp. miliaceum | 15-22E
Oat, Avena spp | 15-22B
Oat, Abyssinian, Avena abyssinica Hochst. ex A. Rich | 15-22B
Oat, common, Avena sativa L | 15-22B
Oat, naked, Avena nuda L | 15-22B
Oat, sand, Avena strigosa Schreb | 15-22B
Popcorn, Zea mays L. subsp. mays | 15-22C
Prince's feather, Amaranthus hypochondriacus L | 15-22A
Psyllium, Plantago arenaria Waldst. & Kit | 15-22A
Psyllium, blond, Plantago ovata Forssk | 15-22A
Quinoa, Chenopodium quinoa Willd. subsp. quinoa | 15-22A
Rice, Oryza sativa L | 15-22F
Rice, African, Oryza glaberrima Steud | 15-22F
Rye, Secale cereale L. subsp. cereale | 15-22A
Teff, Eragrostis tef (Zuccagni) Trotter | 15-22E
Teosinte, Zea mays L. subsp. mexicana (Schrad.) H. H. Iltis | 15-22C
Triticale, X Triticosecale spp | 15-22A
Wheat, Triticum spp | 15-22A
Wheat, club, Triticum aestivum L. subsp. compactum (Host) Mackey | 15-22A
Wheat, common, Triticum aestivum L. subsp. aestivum | 15-22A
Wheat, durum, Triticum turgidum L. subsp. durum (Desf.) van Slageren | 15-22A
Wheat, einkorn, Triticum monococcum L. subsp. monococcum | 15-22A
Wheat, emmer, Triticum turgidum L. subsp. dicoccon (Schrank) Thell | 15-22A
Wheat, macha, Triticum aestivum L. subsp. macha (Dekapr. & Menabde) Mackey | 15-22A
Wheat, oriental, Triticum turgidum L. subsp. turanicum (Jakubz.) Á. Löve & D. Löve | 15-22A
Wheat, Persian, Triticum turgidum L. subsp. carthlicum (Nevski) Á. Löve & D. Löve | 15-22A
Wheat, Polish, Triticum turgidum L. subsp. polonicum (L.) Thell | 15-22A
Wheat, poulard, Triticum turgidum L. subsp. turgidum | 15-22A
Wheat, shot, Triticum aestivum L. subsp. sphaerococcum (Percival) Mackey | 15-22A
Wheat, spelt, Triticum aestivum L. subsp. spelta (L.) Thell | 15-22A
Wheat, timopheevi, Triticum timopheevii (Zhuk.) Zhuk. subsp. timopheevii | 15-22A
Wheat, vavilovi, Triticum vavilovii Jakubz. | 15-22A
Wheat, wild einkorn, Triticum monococcum L. subsp. aegilopoides (Link) Thell | 15-22A
Wheat, wild emmer, Triticum turgidum L. subsp. dicoccoides (Körn. ex Asch. & Graebn.) Thell | 15-22A
Wheatgrass, intermediate, Iseilema prostratum (L.) Andersson | 15-22A
Wild rice, Zizania palustris L | 15-22F
Wild rice, eastern, Zizania aquatica L | 15-22F
Cultivars, varieties, and hybrids of these commodities

(iii) Crop subgroups. The following table identifies the crop subgroups for Crop Group 15-22, specifies the representative commodities for each subgroup and lists all the commodities included in each subgroup.

Table 2 to Paragraph (c)(27)—Crop Group 15-22: Subgroup Listing
Representative commodities | Commodities
Crop Subgroup 15-22A: Wheat subgroup
Wheat | Amaranth, grain; Amaranth, purple; Cañihua; Chia; Cram cram; Huauzontle grain; Inca wheat; Prince's feather; Psyllium; Psyllium, blond; Quinoa; Rye; Triticale; Wheat; Wheat, club; Wheat, common; Wheat, durum; Wheat, einkorn; Wheat, emmer; Wheat, macha; Wheat, oriental; Wheat, Persian; Wheat, Polish; Wheat, poulard; Wheat, shot; Wheat, spelt; Wheat, timopheevi; Wheat, vavilovi; Wheat, wild einkorn; Wheat, wild emmer; Wheatgrass, intermediate; cultivars, varieties, and hybrids of these commodities.
Crop Subgroup 15-22B: Barley subgroup
Barley | Barley; Buckwheat; Buckwheat, tartary; Canarygrass, annual; Oat; Oat, Abyssinian; Oat, common; Oat, naked; Oat, sand; cultivars, varieties, and hybrids of these commodities.
Crop Subgroup 15-22C: Field corn subgroup
Field corn | Corn, field; Popcorn; Teosinte; cultivars, varieties, and hybrids of these commodities.
Crop Subgroup 15-22D: Sweet corn subgroup
Sweet corn | Baby corn; Corn, sweet; cultivars, varieties, and hybrids of these commodities.
Crop Subgroup 15-22E: Grain sorghum and millet subgroup
Grain sorghum or Proso millet | Fonio, black; Fonio, white; Grain sorghum; Job's tears; Millet, barnyard; Millet, finger; Millet, foxtail; Millet, little; Millet, pearl; Millet, proso; Teff; cultivars, varieties, and hybrids of these commodities.
Crop Subgroup 15-22F: Rice subgroup
Rice | Rice; Rice, African; Wild rice; Wild rice, eastern; cultivars, varieties, and hybrids of these commodities.

* * * * *

(29) Crop Group 16-22. Forage, Hay, Stover, and Straw of Cereal Grain Group.

(i) Representative commodities. Corn, wheat, and any other cereal grain crop.

(ii) Commodities. Crop Group 16-22 includes the forage, hay, stover and straw of the commodities in Crop Group 15-22, including cultivars, varieties and/or hybrids of these commodities.

* * * * *

[FR Doc. 2022-19022 Filed 9-20-22; 8:45 am]

BILLING CODE 6560-50-P